DEPARTMENT OF DEFENSE

Office of the Secretary

Board of Visitors Meeting

AGENCY: Defense Acquisition University (DAU), DOD.

ACTION: Board of Visitors meeting (BoV).

SUMMARY: The next meeting of the DAU BoV will be held at DAU Mid-West Region in Kettering, Ohio. The purpose of this meeting is to report back to the BoV on continuing items of interest.

DATES: September 15, 2005 from 0900-1500.

ADDRESSES: 3100 Research Blvd, Kettering, Ohio 45420.

FOR FURTHER INFORMATION CONTACT: Ms. Patricia Cizmadia at (703) 805-5134.

SUPPLEMENTARY INFORMATION: The meeting is open to the public; however, because of space limitations, allocation of seating will be made on a first-come, first served basis. Persons desiring to attend the meeting should call Ms. Patricia Cizmadia at (703) 805-5134.

Dated: August 16, 2005.
Jeannette Owings-Ballard,
OSD Federal Register Liaison Officer, Department of Defense.

[FR Doc. 05-16508 Filed 8-19-05; 8:45 am]

BILLING CODE 5001-06-P